DEPARTMENT OF ENERGY

Federal Energy Regulatory Commission

Combined Notice of Filings

Take notice that the Commission has received the following Natural Gas Pipeline Rate and Refund Report filings:

Filings Instituting Proceedings

Docket Numbers: PR25-47-000.

Applicants: The East Ohio Gas Company.

Description: § 284.123(g) Rate Filing: Operating Statement of The East Ohio Gas Company 4/1/2025 to be effective 4/1/2025.

Filed Date: 4/29/25.

Accession Number: 20250429-5146.

Comment Date: 5 p.m. ET 5/20/25.

§ 284.123(g) Protest: 5 p.m. ET 6/30/25.

Docket Numbers: PR25-48-000.

Applicants: Skye MS, LLC.

Description: § 284.123 Rate Filing: Initial Statement of Operating Conditions to be effective 5/9/2023.

Filed Date: 4/29/25.

Accession Number: 20250429-5195.

Comment Date: 5 p.m. ET 5/20/25.

Docket Numbers: RP25-847-000.

Applicants: Discovery Gas Transmission LLC.

Description: Imbalance Cash Out Report of Discovery Gas Transmission LLC.

Filed Date: 4/29/25.

Accession Number: 20250429-5214.

Comment Date: 5 p.m. ET 5/12/25.

Docket Numbers: RP25-854-000.

Applicants: Iroquois Gas Transmission System, L.P.

Description: § 4(d) Rate Filing: 4.30.25 Negotiated Rates—Macquarie Energy LLC R-4090-34 to be effective 5/1/2025.

Filed Date: 4/30/25.

Accession Number: 20250430-5057.

Comment Date: 5 p.m. ET 5/12/25.

Docket Numbers: RP25-855-000.

Applicants: Great Lakes Gas Transmission Limited Partnership.

Description: § 4(d) Rate Filing: GLGT Section 4 Rate Case to be effective 6/1/2025.

Filed Date: 4/30/25.

Accession Number: 20250430-5067.

Comment Date: 5 p.m. ET 5/12/25.

Docket Numbers: RP25-856-000.

Applicants: Fayetteville Express Pipeline LLC.

Description: Compliance filing: Fuel Filing on 4-30-2025 to be effective N/A.

Filed Date: 4/30/25.

Accession Number: 20250430-5109.

Comment Date: 5 p.m. ET 5/12/25.

Docket Numbers: RP25-857-000.

Applicants: ETC Tiger Pipeline, LLC.

Description: § 4(d) Rate Filing: Fuel Filing on 4-30-2025 to be effective 6/1/2025.

Filed Date: 4/30/25.

Accession Number: 20250430-5110.

Comment Date: 5 p.m. ET 5/12/25.

Docket Numbers: RP25-858-000.

Applicants: ANR Pipeline Company.

Description: § 4(d) Rate Filing: ANR Section 4 Rate Case (1 of 3) to be effective 6/1/2025.

Filed Date: 4/30/25.

Accession Number: 20250430-5112.

Comment Date: 5 p.m. ET 5/12/25.

Docket Numbers: RP25-859-000.

Applicants: Northern Natural Gas Company.

Description: § 4(d) Rate Filing: 20250430 Negotiated Rate to be effective 5/1/2025.

Filed Date: 4/30/25.

Accession Number: 20250430-5185.

Comment Date: 5 p.m. ET 5/12/25.

Docket Numbers: RP25-860-000.

Applicants: Alliance Pipeline L.P.

Description: § 4(d) Rate Filing: Negotiated Rates—Releases 2025-05-01 to be effective 5/1/2025.

Filed Date: 4/30/25.

Accession Number: 20250430-5186.

Comment Date: 5 p.m. ET 5/12/25.

Docket Numbers: RP25-861-000.

Applicants: El Paso Natural Gas Company, L.L.C.

Description: § 4(d) Rate Filing: Negotiated Rate Agreement Update (EOG 610720 May 25) to be effective 5/1/2025.

Filed Date: 4/30/25.

Accession Number: 20250430-5244.

Comment Date: 5 p.m. ET 5/12/25.

Docket Numbers: RP25-862-000.

Applicants: El Paso Natural Gas Company, L.L.C.

Description: § 4(d) Rate Filing: Negotiated Rate Agreement Update (Hartree May 25) to be effective 5/1/2025.

Filed Date: 4/30/25.

Accession Number: 20250430-5256.

Comment Date: 5 p.m. ET 5/12/25.

Docket Numbers: RP25-863-000.

Applicants: NEXUS Gas Transmission, LLC.

Description: § 4(d) Rate Filing: Negotiated Rates—Various Releases—eff 5-1-2025 to be effective 5/1/2025.

Filed Date: 4/30/25.

Accession Number: 20250430-5264.

Comment Date: 5 p.m. ET 5/12/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP25-456-001.

Applicants: Cadeville Gas Storage LLC.

Description: Compliance filing: Amended NAESB 4.0 Compliance Filing to be effective 8/1/2025.

Filed Date: 4/30/25.

Accession Number: 20250430-5060.

Comment Date: 5 p.m. ET 5/12/25.

Docket Numbers: RP25-461-001.

Applicants: SG Resources Mississippi, L.L.C.

Description: Compliance filing: Amended NAESB 4.0 Compliance Filing to be effective 8/1/2025.

Filed Date: 4/30/25.

Accession Number: 20250430-5192.

Comment Date: 5 p.m. ET 5/12/25.

Docket Numbers: RP25-462-001.

Applicants: Perryville Gas Storage LLC.

Description: Compliance filing: Amended NAESB 4.0 Compliance Filing to be effective 8/1/2025.

Filed Date: 4/30/25.

Accession Number: 20250430-5140.

Comment Date: 5 p.m. ET 5/12/25.

Docket Numbers: RP25-465-001.

Applicants: Pine Prairie Energy Center, LLC.

Description: Compliance filing: Amended NAESB 4.0 Compliance Filing to be effective 8/1/2025.

Filed Date: 4/30/25.

Accession Number: 20250430-5189.

Comment Date: 5 p.m. ET 5/12/25.

Docket Numbers: RP25-466-001.

Applicants: Monroe Gas Storage Company, LLC.

Description: Compliance filing: Amended NAESB 4.0 Compliance Filing to be effective 8/1/2025.

Filed Date: 4/30/25.

Accession Number: 20250430-5252.

Comment Date: 5 p.m. ET 5/12/25.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: April 30, 2025.
Carlos D. Clay,
Deputy Secretary.

[FR Doc. 2025-07838 Filed 5-5-25; 8:45 am]

BILLING CODE 6717-01-P